DEPARTMENT OF COMMERCE

National Oceanic and Atmospheric Administration

RIN 0648-XD335

Fisheries of the Exclusive Economic Zone Off Alaska; Stock Assessment of Bering Sea/Aleutian Islands Atka Mackerel; Peer Review Meeting

AGENCY: National Marine Fisheries Service (NMFS), National Oceanic and Atmospheric Administration (NOAA), Commerce.

ACTION: Notice of peer review meeting.

SUMMARY: NMFS has requested the Center for Independent Experts (CIE) to conduct a peer review of the agency's stock assessment of Bering Sea/Aleutian Islands Atka mackerel. The CIE is a group that provides independent peer reviews of NMFS science nationwide, including reviews of stock assessments for fish and marine mammals. The CIE review will examine whether the assessment incorporates the best available scientific information and provides a reasonable approach to understanding the population dynamics and stock status of Bering Sea/Aleutian Islands Atka mackerel. The public is invited to attend and observe the presentations and discussions between the CIE panel and the NMFS scientists who collected and processed the data, and designed the underlying model.

DATES: The review will be held July 29 through July 31, 2014, from 9 a.m. to 5 p.m. Pacific Daylight Time.

ADDRESSES: The review will be held at the NMFS Alaska Fisheries Science Center, 7600 Sand Point Way NE., Building 4, Seattle, WA, 98115, in conference room 2039.

FOR FURTHER INFORMATION CONTACT: Sandra Lowe, 206-526-4230, or Jim Ianelli, 206-526-6510.

SUPPLEMENTARY INFORMATION: The CIE panel will consist of three peer reviewers who will assess materials related to the topic, participate in a review workshop with the NMFS scientists who developed the model and the analytical approach, and produce a report. This review will be highly technical in nature and will cover mathematical details of the analytical approach. Members of the public are invited to observe, and will be provided opportunities to contribute on July 29.

The final report is due to the NMFS contractor officer's representative (COR) on August 29, 2014, and will consist of individual reports from each panelist. The NMFS COR will distribute the final CIE reports to the Alaska Fisheries Science Center by September 5, 2014.

Special Accommodations

The review will be physically accessible to people with disabilities. Requests for sign language interpretation or other auxiliary aids should be directed to Jennifer Ferdinand, (206) 526-4076, at least 5 working days prior to the meeting date.

Dated: June 17, 2014.
Emily H. Menashes,
Acting Director, Office of Sustainable Fisheries, National Marine Fisheries Service.

[FR Doc. 2014-14477 Filed 6-19-14; 8:45 am]

BILLING CODE 3510-22-P